DEPARTMENT OF HEALTH AND HUMAN SERVICES

National Committee on Vital and Health Statistics: Meeting Full Committee

Pursuant to the Federal Advisory Committee Act, the Department of Health and Human Services (HHS) announces the following advisory committee meeting.

Name: National Committee on Vital and Health Statistics (NCVHS), Full Committee Meeting.

Time and Date: February 20, 2014 9:00 a.m.-5:30 p.m. EDT. February 21, 2014 8:00 a.m.-12:00 p.m. EDT.

Place: Hubert H. Humphrey Building, 200 Independence Avenue SW., Room 705A, Washington, DC 20201. Public attendees should call (202) 690-7100 for admission to the meeting room on the day of the meeting.

Status: Open.

Purpose: The purpose of this meeting is to review NCVHS Status of Activities, to strategically plan for 2014 objectives and deliverables, and review and approve three action items: (1) The Committee's HIPAA Report to Congress; (2) a recommendation letter on population health data standards; and, (3) a recommendation letter on capacity submitted by the Working Group on Data Access and Use. The Committee will also be briefed on a presentation given to the HHS Data Council on the Committee's strategic plans to Support Communities as Learning Health Systems. The Working Group on HHS Data Access and Use will continue strategic discussions on community data issues.

The times shown above are for the full Committee meeting. Subcommittee issues will be included as part of the Full Committee schedule and identified as “blocks” on the afternoon of the first day and morning the second day. Agendas for these block sessions will be developed later and posted on the NCVHS Web site (URL below) when available.

Contact Person For More Information: Substantive program information may be obtained from Debbie M. Jackson, Acting Executive Secretary, NCVHS, National Center for Health Statistics, Centers for Disease Control and Prevention, 2339 Toledo Road, Room 2402, Hyattsville, Maryland 20782, telephone (301) 458-4614 or Kamahanahokulani Farrar, Centers for Medicare and Medicaid Services, Office of E-Health Standards and Services, 7500 Security Boulevard, Baltimore, Maryland, 21244, telephone (410) 786-6711. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: January 24, 2014.
James Scanlon,
Deputy Assistant Secretary for Planning and Evaluation (Science and Data Policy), Office of the Assistant Secretary for Planning and Evaluation.

[FR Doc. 2014-02070 Filed 1-30-14; 8:45 am]

BILLING CODE 4151-05-P